DEPARTMENT OF VETERANS AFFAIRS

Department of Veterans Affairs

Veterans' Rural Health Advisory Committee; Notice of Meeting

The Department of Veterans Affairs (VA) gives notice under Public Law 92-463 (Federal Advisory Committee Act) that the Veterans' Rural Health Advisory Committee will conduct a teleconference call meeting on Tuesday, August 2, 2011, from 2 p.m. to 4 p.m., in Room GL20 of the Office of Rural Health, 1722 I Street, NW., Washington, DC. The toll-free number for the meeting is 1-800-767-1750, and the access code is 19929#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will discuss its Annual Report to the Secretary and the agenda for the Committee's upcoming meeting which will include a Veteran community meeting in October 2011 in Portland, Maine.

A 15-minute period will be reserved at 3:40 p.m. for public comments. Individuals who wish to address the Committee are invited to submit a 1-2 page summary of their comments for inclusion in the official meeting record. Any member of the public seeking additional information should contact Judy Bowie, Designated Federal Officer, at rural.health.inquiry@va.gov or (202) 461-7100.

Dated: July 18, 2011.
By Direction of the Secretary.
Vivian Drake,
Acting Committee Management Officer.

[FR Doc. 2011-18485 Filed 7-21-11; 8:45 am]

BILLING CODE P